POSTAL SERVICE

39 CFR Part 111

Intelligent Mail Package Barcode Compliance Quality

AGENCY: Postal Service™.

ACTION: Final rule.

SUMMARY: The Postal Service is amending Mailing Standards of the United States Postal Service, Domestic Mail Manual (DMM®) to add an additional Intelligent Mail® package barcode (IMpb®) validation under the “Barcode Quality” compliance category.

DATES: Effective October 1, 2023.

FOR FURTHER INFORMATION CONTACT: Steven Jarboe at (202) 268-7690, Devin Qualls at (202) 268-3287, or Garry Rodriguez at (202) 268-7281.

SUPPLEMENTARY INFORMATION: On June 28, 2023, the Postal Service published a notice of proposed rulemaking (88 FR 41871-41872) to add an additional IMpb validation. In response to the proposed rule, the Postal Service did not receive any formal comments.

The Postal Service is adding a third validation under the “Barcode Quality” compliance category that will require that an IMpb must include a valid, unique 3-digit STC that accurately represents the mail class, product, and service combination on the physical label affixed to the package. Additionally, the IMpb on the package must also correspond with electronic package level details and Extra Services Code(s) contained within the Shipping Services File (SSF). Any variance in the data presented in the electronic submission of a parcel or a variance with the physical aspect of the label affixed to a parcel presented for mailing will be subject to the IMpb noncompliance fee if a mailer falls below the 98 percent threshold.

We believe this revision will ensure IMpb quality enabling the Postal Service to provide customers with a more efficient mailing experience.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Flats, and Parcels

* * * * *

204 Barcode Standards

* * * * *

2.0 Standards for Package and Extra Service Barcodes

2.1 Intelligent Mail Package Barcode

* * * * *

2.1.8 Compliance Quality Thresholds

* * * * *

Exhibit 2.1.8—IMpb Compliance Quality Thresholds
Compliance categories | Compliance codes | Validations | Compliance thresholds
* * * * * * *
Barcode Quality * * *
* * * * * * *

[Revise the text in the “Barcode Quality” compliance category under the “Validation” column by adding a third validation to read as follows:]

• The IMpb must include a valid, unique 3-digit Service Type Code that accurately represents the mail class, product, and service combination on the physical label affixed to the package and the electronic package level details and Extra Services Code(s) in the Shipping Services File.

* * * * *

Sarah Sullivan,
Attorney, Ethics & Legal Compliance.

[FR Doc. 2023-16981 Filed 8-9-23; 8:45 am]

BILLING CODE P